DEPARTMENT OF ENERGY

Federal Energy Regulatory Commission

[Docket No. IC20-9-000]

Commission Information Collection Activities (FERC-549D); Comment Request; Extension

AGENCY: Federal Energy Regulatory Commission, DOE.

ACTION: Notice of information collection and request for comments.

SUMMARY: In compliance with the requirements of the Paperwork Reduction Act of 1995 (PRA), the Federal Energy Regulatory Commission (Commission or FERC) is soliciting public comment on the currently approved information collection, FERC-549D (Quarterly Transportation and Storage Report for Intrastate Natural Gas and Hinshaw Pipelines).

DATES: Comments on the collection of information are due May 1, 2020.

ADDRESSES: You may submit comments (identified by Docket No. IC20-9-000) by either of the following methods:

• eFiling at Commission's Website: http://www.ferc.gov/docs-filing/efiling.asp.

• Mail: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-549D, Quarterly Transportation and Storage Report for Intrastate Natural Gas and Hinshaw Pipelines.

OMB Control No.: 1902-0253.

Type of Request: Three-year extension of the FERC-549D information collection requirements with no changes to the current reporting requirements.

Abstract: The reporting requirements under FERC-549D are required to carry out the Commission's policies in accordance with the general authority in Sections 1(c) of the Natural Gas Act (NGA) ¹ and Sections 311 of the Natural Gas Policy Act of 1978 (NGPA).² This collection promotes transparency by collecting and making available intrastate and Hinshaw pipeline transactional information. The Commission collects the data upon a standardized form with all requirements outlined in 18 CFR 284.126.

¹ 15 U.S.C. 717-817-w.

² 15 U.S.C. 3301-3432.

The FERC-549D collects the following information:

• Full legal name and identification number of the shipper receiving service, including whether the pipeline and the shipper are affiliated;

• Type of service performed;

• The rate charged under each contract;

• The primary receipt and delivery points for each contract;

• The quantity of natural gas the shipper is entitled to transport, store, or deliver for each transaction;

• The duration of the contract, specifying the beginning and (for firm contracts only) ending month and year of current agreement;

• Total volumes transported, stored, injected or withdrawn for the shipper; and

• Annual revenues received for each shipper, excluding revenues from storage services.

Filers submit the Form-549D on a quarterly basis.

Type of Respondents: Intrastate natural gas under NGPA Section 311 authority and Hinshaw pipelines.

Estimate of Annual Burden: ³ The Commission estimates the annual public reporting burden and cost for the information collection as follows:

³ The Commission defines burden as the total time, effort, or financial resources expended by persons to generate, maintain, retain, or disclose or provide information to or for a Federal agency. For further explanation of what is included in the information collection burden, reference 5 Code of Federal Regulations 1320.3.

FERC-549D—Quarterly Transportation and Storage Report for Intrastate Natural Gas and Hinshaw Pipelines
| Average annual number of respondents | Average annual number of responses per respondent | Average annual total number of responses | Average burden hours & cost ($) per response | Total annual burden hours & total annual cost ($) (rounded) | Cost per respondent ($)
| (1) | (2) | (1) * (2) = (3) | (4) | (3) * (4) = (5) | (5) ÷ (1)
PDF filings | 120 | 4 | 480 | 12.5 hrs.; $1,133 | 6,000 hrs.; $543,840 | $4,532
Total |  |  | 480 |  | 6,000 hrs.; $543,840

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 25, 2020.
Kimberly D. Bose,
Secretary.

[FR Doc. 2020-04219 Filed 2-28-20; 8:45 am]

BILLING CODE 6717-01-P